DEPARTMENT OF LABOR

Employment and Training Administration

[TA-W-58,883]

Harris Bank, Chicago, IL; Notice of Termination of Investigation

Pursuant to section 221 of the Trade Act of 1974, as amended, an investigation was initiated on February 22, 2006, in response to a petition filed on behalf of workers at Harris Bank, Chicago, Illinois.

The Department has determined that this petition is a photocopy of petition number TA-W-58,814, which was received on February 9, 2006. That petition investigation resulted in a negative determination issued on February 17, 2006, regarding the eligibility for workers of Harris N.A., Wire Transfer Department, a subsidiary of The Bank of Montreal Financial Group, Chicago, Illinois, to apply for worker adjustment assistance and alternative trade adjustment assistance.

Consequently, further investigation would serve no purpose, and the investigation has been terminated.

Signed at Washington, DC, this 1st day of March, 2006.
Linda G. Poole,
Certifying Officer, Division of Trade Adjustment Assistance.

[FR Doc. E6-4126 Filed 3-21-06; 8:45 am]

BILLING CODE 4510-30-P